EXECUTIVE OFFICE OF THE PRESIDENT

Office of National Drug Control Policy

Designation of Five Counties as High Intensity Drug Trafficking Areas

ACTION: Notice.

SUMMARY: The Director of the Office of National Drug Control Policy designated five additional counties as High Drug Trafficking Areas pursuant to 21 U.S.C. 1706. The new counties are (1) Rock and Brown Counties in Wisconsin as additions to the Milwaukee HIDTA, (2) Lane County and Warm Springs Indian Reservation in Oregon as additions to the Oregon HIDTA, and (3) Travis County, Texas as an addition to the Southwest Border HIDTA, South Texas Region.

FOR FURTHER INFORMATION CONTACT: Questions regarding this notice should be directed to Mr. Arnold Moorin, National HIDTA Program Director, Office of National Drug Control Policy, Executive Office of the President, Washington, DC 20503; (202) 368-8423.

Signed at Washington, DC, this 20th day of April 2010.
Daniel R. Petersen,
Deputy General Counsel.

[FR Doc. 2010-9467 Filed 4-22-10; 8:45 am]

BILLING CODE 3180-02-P